DEPARTMENT OF AGRICULTURE

Agricultural Marketing Service

[Docket Number FV-04-307]

United States Standards for Grades of Cucumbers

AGENCY: Agricultural Marketing Service, USDA.

ACTION: Notice.

SUMMARY: The Agricultural Marketing Service (AMS), prior to undertaking research and other work associated with revising official grade standards, is soliciting comments on the possible revisions to the United States Standards for Grades of Cucumbers. At a 2003 meeting with the Fruit and Vegetable Industry Advisory Committee, AMS was asked to review all the fresh fruit and vegetable grade standards for usefulness in serving the industry. As a result, AMS has identified industry terms such as Super Select, Select, Small, Large and Plain for possible inclusion into the standards. Additionally, AMS is seeking comments regarding any other revisions of the cucumber grade standards that may be necessary to better serve the industry.

DATES: Comments must be received by August 24, 2004.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, e-mail FPB.DocketClerk@usda.gov or comments may be sent electronically to the Federal eRulemaking portal at http://www.regulations.gov. Comments should make reference to the dates and page number of this issue of the Federal Register and will be made available for public inspection in the above office during regular business hours. The United States Standards for Grades of Cucumbers are available either through the address cited above or by accessing the Fresh Products Branch Web site at http://www.ams.usda.gov/standards/stanfrfv/htm.

FOR FURTHER INFORMATION CONTACT: David L. Priester, at the above address or call (202) 720-2185; e-mail David.Priester@usda.gov.

SUPPLEMENTARY INFORMATION:

Background

At a 2003 meeting with the Fruit and Vegetable Industry Advisory Committee, AMS was asked to review all the fresh fruit and vegetable grade standards for usefulness in serving the industry. AMS has identified the United States Standards for Grades of Cucumbers for a possible revision. These standards were last revised in 1958. As a result, AMS has identified industry terms such as Super Select, Select, Small, Large and Plain for possible inclusion into the standards. These terms are used by the industry in the marketing of cucumbers in a number of ways; some members of the industry use these terms to refer specifically to size of cucumbers in a container, while others use these terms as part of a grading system. Therefore, these terms would need to be standardized for inclusion into the U.S. standards. However, prior to undertaking detailed work to develop proposed revisions to the standards, AMS is soliciting comments on the possible revision to the standards and the probable impact on distributors, processors, and growers. Additionally, AMS is seeking comments regarding any other revisions that may be necessary to better serve the industry.

Accordingly, AMS is soliciting comments on the possible revisions to the United States Standards for Grades of Cucumbers.

This notice provides for a 60-day comment period for interested parties to comment on changes to the standards. Should AMS conclude that there is a need for the revisions of the standards, the proposed revisions will be published in the Federal Register with a request for comments in accordance with 7 CFR part 36.

Authority: 7 U.S.C. 1621-1627.

Dated: June 22, 2004.
Kenneth C. Clayton,
Associate Administrator, Agricultural Marketing Service.

[FR Doc. 04-14545 Filed 6-24-04; 8:45 am]

BILLING CODE 3410-02-P